DEPARTMENT OF HEALTH AND HUMAN SERVICES

Centers for Disease Control and Prevention

Reorganization of the National Center for Injury Prevention and Control

AGENCY: Centers for Disease Control and Prevention (CDC), the Department of Health and Human Services (HHS).

ACTION: Notice.

SUMMARY: CDC has modified its structure. This notice announces the National Center for Injury Prevention and Control (NCIPC) reorganization. NCIPC established the Behavioral Integration Branch.

DATES: This reorganization of NCIPC was approved by the Director of CDC on August 21, 2024 and became effective.

FOR FURTHER INFORMATION CONTACT: Tina Lickliter, Division of Injury Prevention, National Center for Injury Prevention and Control, Centers for Disease Control and Prevention, 4700 Buford Highway NE, MS S106-9, Atlanta, GA 30341. Telephone: 770-488-3453; Email: tma1@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 89 FR 59101-59104, dated July 22, 2024) is amended to reflect the reorganization of National Center for Injury Prevention and Control, Centers for Disease Control and Prevention. Specifically, the changes are as follows:

I. Under Part C, Section C-B, Organization and Functions, make the following changes:

• Establish the Behavioral Integration Branch (CECE)

II. Under Part C, Section C-B, Organization and Functions, after the Data Analytics Branch (CECD) insert the following:

Behavioral Integration Branch (CECE). (1) plans, directs, and supports epidemiological analysis, applied research, and demonstration projects to advance the integration of behavioral health (including suicide prevention) strategies with healthcare delivery and community behavioral health services; (2) plans and directs strategies to collect, analyze, and interpret scientific findings from surveillance, behavioral, and epidemiologic research activities for use in evaluating trends, setting priorities, and developing intervention strategies for suicidal behaviors and other self-harm; (3) plans, directs, conducts, and supports research to assess environmental, social, behavioral, and other risk and protective factors and to develop and evaluate intervention activities for suicide prevention and control (4) leads and coordinates a national program for the prevention and control of suicide and suicidal behavior in collaboration with federal, state, local, territorial, and tribal agencies, and public and private sector organizations; (5) provides leadership, research, and expert consultation to federal, state, local, territorial, tribal, and non-governmental partners in addressing suicidal and other self-harm behaviors; (6) provides technical assistance to local, state, territorial, and tribal agencies to advance the integration of surveillance and suicide prevention strategies with healthcare delivery and community behavioral health services; (7) develops guidance to reduce or mitigate risk factors and increase protective factors as appropriate; and (8) disseminates scientific findings, evidence-based prevention strategies, and suicide prevention guidelines by publishing research findings in professional journals and government reports, participating in national and international meetings, seminars, and conferences, and developing communication initiatives.

Delegations of Authority

All delegations and redelegations of authority made to officials and employees of affected organizational components will continue in them or their successors pending further redelegation, provided they are consistent with this reorganization.

(Authority: 44 U.S.C. 3101)

Robin D. Bailey,
Chief Operating Officer, Centers for Disease Control and Prevention.

[FR Doc. 2024-19113 Filed 8-23-24; 8:45 am]

BILLING CODE 4163-18-P